DEPARTMENT OF THE INTERIOR

Bureau of Indian Affairs

Draft Environmental Impact Statement for the North Fork Rancheria's Proposed 305 Acre Trust Acquisition and Hotel/Casino Project, Madera County, CA

AGENCY: Bureau of Indian Affairs, Interior.

ACTION: Notice.

SUMMARY: This notice advises the public that the Bureau of Indian Affairs (BIA) as lead agency, with the North Fork Rancheria of Mono Indians (Tribe), California Department of Transportation, Madera Irrigation District, City of Madera, National Indian Gaming Commission and U. S. Environmental Protection Agency (EPA) as cooperating agencies, intends to file a Draft Environmental Impact Statement (DEIS) with the EPA for the proposed 305 acre trust acquisition and the construction of a hotel/casino project to be located in unincorporated Madera County, just north of the City of Madera, California, and that the DEIS is now available for public review. Public review of the DEIS is part of an administrative process designed to evaluate tribal applications that seek to have the United States to take land into Federal trust pursuant to 25 CFR part 151. Reviewers are advised that we will consider public comments carefully prior to deciding whether to approve or disapprove this application. This notice also announces a public hearing to receive comments on the DEIS.

DATES: Written comments on the scope and implementation of this proposal must arrive by March 31, 2008. The public hearing will be held March 12, 2008, from 6 p.m. to 9 p.m., or until the last public comment is received.

ADDRESSES: You may mail or hand carry written comments to Amy Dutschke, Acting Regional Director, Pacific Regional Office, Bureau of Indian Affairs, 2800 Cottage Way, Sacramento, California 95825. Please include your name, return address, and the caption, “DEIS Comments, North Fork Rancheria's Hotel/Casino Project,” on the first page of your written comments.

The public hearing will be at the Hatfield Hall, Madera District Fairgrounds, 1850 West Cleveland Avenue, Madera, California.

The DEIS is available for review at the Madera County Public Library, 121 N. G. Street, Madera, California 93637, and at the Madera County Public Library, Chowchilla Branch, 300 Kings Ave., Chowchilla, California 93610. General information for the Madera County Public Library may be obtained by calling (559) 675-7871, and for the Madera County Public Library, Chowchilla Branch, by calling (559) 665-2630.

If you would like to obtain a copy of the DEIS, please write or call John Rydzik, Chief of the Division of Environmental, Cultural Resource Management and Safety, at the BIA address above or the telephone number provided below. An electronic version of the DEIS may be viewed at http://www.NorthForkEIS.com.

FOR FURTHER INFORMATION CONTACT: John Rydzik, (916) 978-6042.

SUPPLEMENTARY INFORMATION: The Tribe has requested that the BIA take into Federal trust 305 acres of land currently held in fee by the Tribe, on which the Tribe proposes to construct a hotel, casino, parking areas and other facilities. The proposed project is located in unincorporated Madera County, California, just north of the City of Madera and adjacent to State Route 99 (SR-99). The project site is bounded on the north by Avenue 18, rural residential land, light industrial land, and vacant land; on the east by Golden State Boulevard and SR-99; on the south by agricultural land and residential land; and on the west by Road 23 and agricultural land.

The proposed action includes the development of an approximately 472,000 square foot hotel and casino resort and associated facilities, which would include a main gaming hall, food and beverage services, retail space, banquet/meeting space, and administration space. Food and beverage facilities would include three full service restaurants, a five-tenant food court, a buffet, four bars and a lounge. The hotel would include 200 rooms, a resort style pool area and a spa. Approximately 4,500 parking spaces would be provided. Regional access to the project site is via SR-99. Road 23, Avenue 18, and Golden State Boulevard would provide direct access to the hotel/casino resort.

A range of project alternatives is considered in the DEIS, including: (1) Preferred hotel/casino; (2) reduced casino; (3) commercial development; (4) North Fork Rancheria alternate site; and (5) no action. Environmental issues addressed in the DEIS include land resources, water resources, air quality, biological resources, cultural resources, socioeconomic conditions, environmental justice, transportation, land use, agriculture, public services, noise, hazardous materials, visual resources, cumulative effects, indirect effects, growth inducing effects and mitigation measures. Input from the public, including that from a public scoping meeting the BIA held on November 15, 2004, in Madera, California, was included in the development of these alternatives and issues.

Public Comment Availability

Comments, including names and addresses of respondents, will be available for public review at the BIA address shown in the ADDRESSES section, during business hours, 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority

This notice is published in accordance with section 1503.1 of the Council of Environmental Quality Regulations (40 CFR parts 1500 through 1508) implementing the procedural requirements of the National Environmental Policy Act of 1969, as amended (42 U.S.C. 4371 et seq.), Department of the Interior Manual (516 DM 1-6), and is in the exercise of authority delegated to the Assistant Secretary—Indian Affairs by 209 DM 8.l.

Dated: January 28, 2008.
Carl J. Artman,
Assistant Secretary—Indian Affairs.

[FR Doc. E8-2828 Filed 2-14-08; 8:45 am]

BILLING CODE 4310-W7-P